DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday, August 12th in Susanville, California for a business meeting. The meetings are open to the public.

FOR FURTHER INFORMATION CONTACT: Robert Andrews, District Ranger and Designated Federal Officer, at (530) 257-4188; or Public Affairs Officer, Heidi Perry, at (530) 252-6605.

SUPPLEMENTARY INFORMATION: The business meeting August 12th begins at 9 a.m., at the Lassen National Forest Headquarters Office, Caribou Conference Room, 2550 Riverside Drive, Susanville, CA 96130. Agenda topics will include; National RAC update; monitoring processes update; 2004 cycle 3 schedule; and general business. Time will also be set aside for public comments at the beginning of the meeting.

Jeff Withroe,
Acting Forest Supervisor.

[FR Doc. 04-17973 Filed 8-5-04; 8:45 am]

BILLING CODE 3410-11-M